DEPARTMENT OF DEFENSE

Department of the Army, Corps of Engineers

Intent To Prepare Draft Supplemental Environmental Impact Statement for the Allatoona Lake Water Supply Storage Reallocation Study and Updates to Weiss and Logan Martin Reservoir Project Water Control Manuals in the Alabama-Coosa-Tallapoosa River Basin

AGENCY: U.S. Army Corps of Engineers, DoD.

ACTION: Notice of intent.

SUMMARY: The U.S. Army Corps of Engineers (USACE), Mobile District, intends to prepare a Supplemental Environmental Impact Statement (SEIS) to evaluate potential changes to the Water Control Manuals (WCMs) for three reservoirs in the Alabama-Coosa-Tallapoosa (ACT) River Basin and to the Master WCM for the ACT River Basin. The USACE intends to conduct a water supply storage reallocation study to evaluate a March 30, 2018 request by Georgia and Cobb County-Marietta Water Authority (CCMWA) for increased water supply usage at Allatoona Lake and changed storage accounting methodology. The Draft SEIS will be prepared as an integrated document with the reallocation study. The reallocation study with the integrated Draft SEIS will address the water supply storage request and updated operating criteria and guidelines for managing the water storage and release actions of Federal water managers and will evaluate the associated environmental impacts of the proposed federal action, pursuant to the National Environmental Policy Act (NEPA). The USACE also intends to update the WCMs for the Alabama Power Company's Weiss and Logan Martin Reservoirs in the ACT River Basin.

ADDRESSES: Environment and Resources Branch, Planning and Environmental Division, U.S. Army Engineer District-Mobile, Post Office Box 2288, Mobile, AL 36628-0001.

FOR FURTHER INFORMATION CONTACT: Questions about the NEPA process should be directed to: Mr. Mike Malsom, Inland Environment Team, Environment and Resources Branch, Planning and Environmental Division, U.S. Army Engineer District-Mobile, Post Office Box 2288, Mobile, AL 36628-0001; Telephone (251) 690-2023; delivered by electronic facsimile at (251) 694-3815; or by electronic mail: ACT-ACR@usace.army.mil. You may also request to be included on the mailing list for public distribution of notices, meeting announcements and documents.

SUPPLEMENTARY INFORMATION:

Background. Eighteen major dams (six Federal and twelve non-Federal), which form sixteen reservoirs, are located in the ACT River Basin. The ACT River Basin provides water resources for multiple purposes from northwestern Georgia down through central Alabama and to the Gulf Coast at the mouth of Mobile Bay, extending a distance of approximately 320 miles and encompassing an area of approximately 22,800 square miles. Pursuant to Section 7 of the Flood Control Act of 1944, the USACE prescribes regulations for the operation of its projects in the ACT River Basin for their authorized purposes, and for the non-federal projects that contain storage for the purposes of navigation or flood control (flood risk management), through water control plans and manuals.

In May 2015, the USACE completed a long-term effort to update the Master WCM for the ACT River Basin, including updated WCMs for all five USACE projects (Allatoona Dam and Lake, Carters Dam and Lake, Robert F. Henry Lock and Dam, Millers Ferry Lock and Dam and Claiborne Lock and Dam) and two of four Alabama Power Company (APC) projects with navigation or flood control storage (H. Neely Henry Dam and Lake and R.L. Harris Dam and Lake). WCMs for the other two APC projects with navigation and flood control storage, Logan Martin Dam and Lake (Reservoir) and Weiss Dam and Lake (Reservoir), were not updated at that time. A pending request by the State of Georgia for additional water supply storage and changes to storage accounting practices at Allatoona Lake was also not included within the scope of the 2015 WCM update and EIS.

In January 2018, the U.S. District Court for the Northern District of Georgia issued a judgment in Georgia et al. v. U.S. Army Corps of Engineers, No. 14-cv-03593 (Jan. 9, 2018), holding that the USACE had unreasonably delayed action on Georgia's water supply request, and directing the USACE to take final action responding to that request by March 1, 2021. Following that court decision, the State of Georgia and CCMWA submitted an updated request to the USACE on March 30, 2018, and the USACE intends to evaluate actions necessary to respond to Georgia's request, as well as one or more reasonable alternatives, in the proposed SEIS.

The USACE did not include updates to the WCMs for the Weiss and Logan Martin Reservoirs in the 2015 ACT River Basin Master WCM because further study of flood risk management issues at both projects was required. The USACE intends to update the WCMs for two APC reservoir projects in the ACT River Basin, including evaluation of APC's proposal to raise the winter level for recreation and at the same time to lower the upper limit of the induced surcharge operation at the Weiss Dam and Lake (Reservoir) and the Logan Martin Dam and Lake (Reservoir). These projects will be evaluated for flood impacts. Current Water Control Plans for the Weiss and Logan Martin Reservoirs, originally issued in the 1960s, contain surcharge curves with elevations higher than the respective flood easements acquired by APC. The easement at the Weiss Reservoir is 572 feet mean sea level (msl) and the surcharge curve indicates flood control storage to 574 feet msl. At the Logan Martin Reservoir, the easement elevation is 473.5 feet msl and the surcharge curve indicates flood control storage to 477 feet msl. Due to the flood risk management operational responsibilities of the USACE, the APC proposals would be evaluated along with other alternatives in the FR/SEIS and those manuals may be updated.

Because the USACE is simultaneously considering proposals to modify operations and update WCMs at three different ACT River Basin projects, the USACE intends to evaluate the effects of these proposals through a single EIS, which would supplement the Final EIS for the ACT River Basin completed in May 2015. As part of this analysis, the USACE will consider the effects of the proposed changes on operations of the ACT system of projects for all purposes, and would revise the ACT Master WCM to incorporate the updated Allatoona Lake, Weiss Reservoir, and Logan Martin Reservoir WCMs and to reflect changes, if any, in overall system operations.

WCMs are guidance documents that assist Federal water managers in the operation of individual and multiple interdependent Federal reservoirs on the same river system. The manuals provide technical, historical, hydrological, geographic, demographic, policy and other information that guide the proper management of reservoirs during times of high water, low water, and normal conditions. The manuals also contain drought plans and zones to assist Federal water managers in knowing when to reduce or increase reservoir releases, and how to ensure the safety of dams during extreme conditions. The authority and guidance for the USACE to prepare and update these manuals may be found, inter alia, in Section 7 of the 1944 Flood Control Act, the Federal Power Act, Section 9 of Public Law 436-83, and the following USACE Engineering Regulations (ER): ER 1110-2-240, ER 1110-2-241, ER 1110-2-1941 and ER 1110-2-8156.

The evaluations of the proposed water supply storage reallocation at the Allatoona Lake and the flood impacts at several APC projects in the Coosa Basin may require updates to the current WCMs. The updated WCMs would be provided as appendices to the SEIS.

Public participation throughout the water supply storage reallocation and flood pool evaluation process is essential. The USACE invites full public participation at all stages to promote open communication and better decision making. All persons, stakeholders, and organizations that have an interest in water-related resources in the ACT Basin, including minority, low-income, disadvantaged and Native American groups, are urged to participate in this NEPA analysis process. Assistance will be provided upon request to anyone having difficulty understanding how to participate. Dates and locations for public scoping meetings will be announced by future publication in the Federal Register and in the local news media. Tentative dates for publication of the Draft SEIS and other opportunities for public involvement will also be announced at that time. Public comments are welcomed at any time throughout the NEPA process.

Cooperating Agencies. The lead responsibility for this action rests with the USACE. USACE intends to coordinate and/or consult with an interagency team of Federal and State agencies during scoping and preparation of the FR/SEIS. A decision will be made during the scoping process whether other agencies will serve in an official role as cooperating agencies.

Scoping. The 2015 ACT WCM update involved the States (Alabama and Georgia), stakeholders, and the public, in identifying areas of concern; collecting and developing water resources, environmental, and socioeconomic data; and developing tools to assist in decisions affecting water resources within the Basin. Scoping for this SEIS will continue to build upon the knowledge and information developed during the previous EIS process. Scoping meetings with agencies and stakeholder groups will be scheduled to identify any significant issues and data gaps, focus on the alternatives to be evaluated, and to identify any appropriate updated tools to assist in the evaluation of alternatives and analysis of impacts.

Curtis M. Flakes,
Chief, Planning and Environmental Division.

[FR Doc. 2018-09031 Filed 4-27-18; 8:45 am]

BILLING CODE 3720-58-P